DEPARTMENT OF THE INTERIOR

National Park Service

National Register of Historic Places; Notification of Pending Nominations

Nominations for the following properties being considered for listing in the National Register were received by the National Park Service before July 10, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by August 11, 2004.

Carol D. Shull,
Keeper of the National Register of Historic Places.

CALIFORNIA

Santa Clara County

Green Gables, Channing Ave., Ivy Ln., Greer Rd., Wildwood Ln., Palo Alto, 04000863

Greenmeadow (Units I and II), Nelson Dr., El Capitan Pl., Adobe Pl., Creekside Dr., Palo Alto, 04000862

ILLINOIS

Cook County

South Water Market, Bounded by 14th Place, the 16th St. rail embankment, Racine Ave., and Morgan St., Chicago, 04000870

Washington Park, (Chicago Park District MPS) 5531 S. King Dr., Chicago, 04000871

Henry County

Henry County Courthouse, 307 W. Center St., Cambridge, 04000869

Kendall County

Farnsworth House, 14520 River Rd., Plano, 04000867

Madison County

Collinsville City Hall and Fire Station, 125 S. Center St., Collinsville, 04000865

Pike County

Massie Variety Store, 110 S. Main St., New Canton, 04000864

Stephenson County

People's State Bank, 300 W. High St., Orangeville, 04000868

Will County

Ninth Street Seven Arch Stone Bridge, Ninth St. spanning Deep Run Creek, Lockport, 04000866

NEBRASKA

Keith County

Standard Oil Red Crown Service Station, 220 N. Spruce St., Ogallala, 04000897

NEW YORK

Delaware County

Delaware and Northern Railroad Station, Cabin Hill Rd., Andes, 04000872

Queens County

Maple Grove Cemetery, 83-15 Kew Gardens Rd., Kew Gardens, 04000874

Rensselaer County

Van Alen, John Evert, House, 1744 Washington Ave. Ext., Defreestville, 04000873

Rockland County

Van Houten's Landing Historic District, North Broadway, School St., Ellen St., Castle Heights Ave., Van Houten St., Village of Upper Nyack, 04000877

Washington County

Hartford Baptist Church and Cemetery, 56 NY 23 (Main St.), Hartford, 04000875

Westchester County

Young, Isaac, House, 114 Pinesbridge Rd., Ossining, 04000876

OREGON

Baker County

Superintendent's House, 271 Mill St., Sumpter, 04000879

Multnomah County

Reed—Wells House, 2168 NE Multnomah St., Portland, 04000878

PENNSYLVANIA

Blair County

Downtown Altoona Historic District (Boundary Increase), 1330-1410 and 1409-1431 11th Ave. and 1331-1429 Ave., Altoona, 04000885

Bucks County

Warner, Isaiah, Farmstead, 60 Thompson Mill Rd., Wrightstown Township, 04000883

Lackawanna County

Waverly Historic District, Roughly centered on Academy St. and Abington Rd., inc. Carbondale Rd., Beech, Cole, Church and Dearborn St., Abington, 04000884

Philadelphia County

Beatty's Mills Factory Building, 2446-2468 Coral St., Philadelphia, 04000881

Mulford Building, 640 N. Broad St., Philadelphia, 04000882

TEXAS

Cass County

Pleasant Hill School, (Rosenwald School Building Program in Texas MPS) 2722 Farm Rd. 1399, Linden, 04000891

Comal County

Comal Power Plant, Jct. of Landa Rd. and Landa Park Dr., New Braunfels, 04000895

Dallas County

Dallas Downtown Historic District, Roughly bounded by Federal, N. St. Paul, Pacific, Harwood, S. Pearl, Commerce, S Ervay, Akard, Commerce and Field, Dallas, 04000894

Harris County

Burnett House, (Houston Heights MRA) 219 W. Eleventh St., Houston, 04000880

Hays County

Good, Isham Jones, Homestead, (Rural Properties of Hays County, Texas MPS) 13401 Evergreen Way, Austin, 04000896

Porter, Katherine Anne, House, (Rural Properties of Hays County, Texas MPS) 508 W. Center St., Kyle, 04000893

San Augustine County

San Augustine County Courthouse and Jail, Courthouse Sq., San Augustine, 04000892

Smith County

St. James Colored Methodist Episcopal Church, (Tyler, Texas MPS) 408 N. Border Ave., Tyler, 04000887

Tarrant County

Our Lady of Victory Academy, 801 W. Shaw St., Fort Worth, 04000886

Van Zandt County

Humphries, William H. and Molly P., House, 201 S. Main St., Edgewood, 04000890

VIRGINIA

Fauquier County

Waveland, VA 691, Carter's Run Rd., Marshall, 04000888

Spotsylvania County

Walnut Grove, Address Restricted, Spotsylvania, 04000889

[FR Doc. 04-16996 Filed 7-26-04; 8:45 am]

BILLING CODE 4312-51-P